DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of November 9, 2015 through December 11, 2015.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
85,295 | Bimbo Bakeries USA, Inc., BBU, Inc., Earthgrains Baking Companies, Inc | Sioux City, IA | May 7, 2013.
85,516 | Bimbo Bakeries USA, Inc., BBU, Inc | Fresno, CA | September 3, 2013.
85,959 | Wirerope Works Inc., Manpower, Depasquale Staffing Services | Williamsport, PA | April 24, 2014.
86,099 | Mohawk Industries, Ambassador Personnel | Landrum, SC | June 16, 2014.
90,015 | StarTek USA, Inc | Greeley, CO | January 1, 2014.
90,050 | TPUSA—FHCS, Inc | Fairmont, WV | January 1, 2014.
90,056 | Parker Hannifin Corporation, Racor Division, Aerotek, Ambassador Personnel | Beaufort, SC | November 10, 2014.
90,078 | Feralloy Corporation, St. Louis Division | Granite City, IL | January 1, 2014.
90,131 | A.P. Green Refractories, Inc., A.P. Green Industries, Inc., Harbison Walker International, Inc., etc | Oak Hill, OH | January 1, 2014.
90,161 | Boardman LLC, Top Notch, Preferred Personnel | Wichita, KS | January 1, 2014.
90,281 | Verso Corporation, Wickliffe Mill, Select Staffing, U.S., Security Associates and ABBCO Janito | Wickliffe, KY | January 1, 2014.
90,298 | Roaring Spring Blank Book Company, Roaring Spring Paper Products | Martinsburg, PA | January 1, 2014.
90,327 | Kyklos Bearing International, LLC | Sandusky, OH | January 1, 2014.
91,008 | Expera Old Town, LLC, Expera Specialty Solutions, LLC, Red Shield Acquisition, etc | Old Town, ME | September 30, 2014.

The following certifications have been issued. The requirements of Section 222(a)(2)(B) (shift in production or services) of the Trade Act have been met.

TA-W No. | Subject firm | Location | Impact date
85,097 | Dex Media, Super Media Services LLC, Advantage Technical Resourcing (TAC) | Middleton, MA | February 21, 2013.
85,394 | Merck Sharp & Dohme Corporation, Merck & Co., Inc., Medicinal Chemistry Group, Agile-1, Jones Lang LaSalle | Rahway, NJ | June 24, 2013.
85,586 | Delta Dental of Pennsylvania, Data Entry Division | Mechanicsburg, PA | October 9, 2013.
85,601 | Pitney Bowes Inc., U.S. Mailing Division, North American Order Management Department | Troy, NY | October 7, 2013.
85,656 | Sprint/United Management Company, Enterprise Testing Services, IBM | Overland Park, KS | November 18, 2013.
85,752 | Lear Corporation, Corporate Division, Shared Services—Accounts Payable | Southfield, MI | January 6, 2014.
85,829 | Sony Puerto Rico, Inc., Brenda Marrero & Associate Group and Innova Industrial Contractor | Guaynabo, PR | February 10, 2014.
85,992 | Verizon, Customer Service Help Desk Support | Cary, NC | May 6, 2014.
86,069 | Schlumberger Technology Corporation, Journey Management Center Operators, Advantage Staffing, ICONMA, LLC, etc | Kellyville, OK | June 4, 2014.
86,071 | INVISTA S.A.R.L., ABM | Athens, GA | June 5, 2014.
86,075 | EPIC Technologies, LLC, NEO Technologies Solutions | El Paso, TX | July 13, 2014.
90,002 | Caterpillar Inc., Advanced Components Systems Division, &Building KK, etc | East Peoria, IL | January 1, 2014.
90,037 | Bush Industries, Inc., Mason Drive Facility, Express Employment Professionals, US Security Assoc | Jamestown, NY | September 20, 2015.
90,037A | Kelly Services, Bush Industries, Inc | Jamestown, NY | January 1, 2014.
90,037B | Bush Industries, Inc., Allen Street Facility, Express Employment Professionals, US Security Assoc | Jamestown, NY | September 20, 2015.
90,037C | Kelly Services, Bush Industries, Inc., Allen Street Facility | Jamestown, NY | January 1, 2014.
90,039 | Flik Hospitality Group, North America, Mondelez International | Wilkes-Barre, PA | January 1, 2014.
90,041 | Powerex Inc | Youngwood, PA | April 21, 2014.
90,065 | Capital One US Card Operations, Capital One Services II LLC, Capital One Services, LLC, etc | Tigard, OR | January 1, 2014.
90,075 | Symantec Corporation, Technical Support, Veritas Software Corporation, Pro Unlimited, Inc., etc | Springfield, OR | January 1, 2014.
90,079 | A & H Sportswear Co., Inc | Nazareth, PA | January 1, 2014.
90,083 | Hewlett Packard Company, Global Procurement Division, ADEA Solutions, etc | Corvallis, OR | January 1, 2014.
90,084 | Pacific Interpreters, Language Line Services, Languageline, LLC, SlingShot Connections | Portland, OR | January 1, 2014.
90,087 | ClosetMaid, Emerson Electric Company, Volt Workforce Solutions, Select Staffing | Chino, CA | January 1, 2014.
90,089 | Delphi Connection Systems, LLC, Delphi Automotive, LLC | Irvine, CA | January 1, 2014.
90,093 | T-Shirt International, Inc | Culloden, WV | November 3, 2014.
90,097 | Sandvik Mining and Construction USA, LLC, Sandvik, Inc., Work Personnel Services | Bristol, VA | January 1, 2014.
90,115 | Maersk Agency USA, Inc., Finance Division, Talent Bridge | Charlotte, NC | January 1, 2014.
90,115A | Maersk Agency USA, Inc., Finance Division | The Woodlands, TX | January 1, 2014.
90,115B | Maersk Agency USA, Inc., Finance Division | Florham Park, NJ | January 1, 2014.
90,119 | DFS Corporate Services, LLC, Business Technology Student Loan Production Support Division & DSL, etc | Pittsford, NY | January 1, 2014.
90,141 | Capital One US Card Operations, Capital One Services II, LLC, Capital One, National Association | Sioux Falls, SD | January 1, 2014.
90,145 | MasterCard International Incorporated | Purchase, NY | January 1, 2014.
90,147 | Exterran Energy Solutions, LP, American Staff Corp., Employee Solutions, etc | Broken Arrow, OK | January 1, 2014.
90,156 | Boston Scientific, EP Technologies, Barrett Business Services | San Jose, CA | January 1, 2014.
90,156A | Boston Scientific, Target Therapeutics, Barrett Business Services | Fremont, CA | January 1, 2014.
90,166 | Dresser, Inc., Dresser Masoneilan, General Electric Measurement and Control, etc | Avon, MA | May 9, 2015.
90,166A | Kelly Services, NEED, Op Amp, Softek, Aerotek, and APN Software Solutions, Dresser Masoneilan, General Electric Measurement and Control, etc | Avon, MA | January 1, 2014.
90,168 | Transamerica Life Insurance Company, Enterprise Business Services, Computer Sciences Corporation, etc | Los Angeles, CA | January 1, 2014.
90,170 | Startek, Inc., Account Temps Agency | Greenwood Village, CO | January 1, 2014.
90,224 | Texas Health Care, P.L.L.C | Fort Worth, TX | January 1, 2014.
90,226 | Toyota Tsusho America, Inc., Pasona, Robert Half, Top Chicago, Delta Search Group, etc | Farmington Hills, MI | January 1, 2014.
90,234 | Parker Hannifin Corporation, Medical Systems Division, Kimco Staffing | Anaheim, CA | January 1, 2014.
90,262 | NCO Financial Systems, Inc., Expert Global Solutions, EGS Financial Care, Inc | St. Joseph, MO | January 1, 2014.
90,265 | Osram Sylvania, Inc., Victory Personnel Services, Inc., Yoh Services, LLC | Wellsboro, PA | December 14, 2015.
90,279 | Swiss Re America Holding Corporation, Finance | Overland Park, KS | January 1, 2014.
90,299 | Leon Interiors, Inc., Leon Plastics, Inc. Employment Group, Adecco, Manpower, Aerotek, etc | Grand Rapids, MI | January 1, 2014.
90,321 | Metso Minerals Industries, Inc, Metso Corporation | York, PA | January 1, 2014.
90,331 | Kimco Realty Corporation | New Hyde Park, NY | January 1, 2014.
91,006 | Vocollect, Inc., Honeywell International, Inc., Cortech, GDKN Corporation, Manpower, etc | Monroeville, PA | September 30, 2014.
91,007 | Joy Global, Inc | Brook Park, OH | September 30, 2014.
91,009 | PI. U.S. Holding, Inc., Rheem Sales Company, Inc., Rheem Manufacturing Company, etc | Fort Smith, AR | October 25, 2015.
91,017 | American Airlines, Inc., Texas Aero Engine Services, LLC | Fort Worth, TX | October 2, 2014.
91,027 | Indiana Marujun, LLC, Adecco, First Call | Winchester, IN | October 2, 2014.
91,030 | Mitsubishi Motors North America, Inc., Mitsubishi Motors Corporation Manufacturing Division, ETG, etc | Normal, IL | October 6, 2014.
91,042 | Airboss Defense Inc., Vermont Division, AirBoss of America | Milton, VT | October 8, 2014.
91,052 | EnerSys Energy Products, Inc., EnerSys, Corporate Care | Warrensburg, MO | October 13, 2014.
91,055 | Emerson Tool Company, Finance and Administration Divisions | St. Louis, MO | October 15, 2014.
91,056 | Visual Citi Inc | Lindenhurst, NY | October 15, 2014.
91,067 | Ulticom, Inc., Mitel US Holdings, Inc | Mount Laurel, NJ | October 21, 2014.
91,079 | HBW Leads LLC | Salem, OR | October 27, 2014.
91,085 | YP Advertising & Publishing LLC, Maryland Heights, Missouri Division, Digital Operations Group, etc | Maryland Heights, MO | October 29, 2014.
91,111 | Parker Hannifin Corporation, Intertech Drive, Gear Pump Division, Aerotek | Youngstown, OH | October 30, 2014.
91,172 | Wheelock Manufacturing Inc | Morocco, IN | November 23, 2014.

The following certifications have been issued. The requirements of Section 222(b) (supplier to a firm whose workers are certified eligible to apply for TAA) of the Trade Act have been met.

TA-W No. | Subject firm | Location | Impact date
85,040 | S&S Transportation, Inc | Lincoln, ME | January 28, 2013.
90,284 | Bloomington Normal Seating Company, People Link | Normal, IL | January 1, 2014.

The following certifications have been issued. The requirements of Section 222(b) (downstream producer for a firm whose workers are certified eligible to apply for TAA) of the Trade Act have been met.

TA-W No. | Subject firm | Location | Impact date
90,036 | Bush Industries of Pennsylvania, Inc., Labor Ready | Erie, PA | September 20, 2015.
90,036A | Kelly Services, Bush Industries of Pennsylvania, Inc | Erie, PA | January 1, 2014.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
85,706 | Quality Auto Electric, Inc | Knoxville, TN |
86,036 | Flowers Bakeries, LLC | Waterloo, IA |
90,128 | Market Strategies | Clifton Park, NY |
90,179 | Leedon Webbing Co., Inc., ADD Temps | Central Falls, RI |
90,282 | L&M Radiator, Inc | Independence, IA |

The investigation revealed that the criteria under paragraphs (a)(2)(A)(i) (decline in sales or production, or both) and (a)(2)(B) (shift in production or services to a foreign country) of section 222 have not been met.

TA-W No. | Subject firm | Location | Impact date
85,165 | Esterline Memtron Input Components, Esterline Technologies, Trillium | Frankenmuth, MI |
85,815 | Peak Oilfield Services Company | Nikiski, AK |
86,134 | Thorpe Plant Services, Inc., ESCI | Broken Arrow, OK |

The investigation revealed that the criteria under paragraphs (a)(2)(A) (increased imports) and (a)(2)(B) (shift in production or services to a foreign country) of section 222 have not been met.

TA-W No. | Subject firm | Location | Impact date
85,064 | Southside Manufacturing | Blairs, VA |
85,075 | Duro Textiles, LLC, Finishing and Print Plants, Patriarch Partners, LLC, LT Staffing, etc | Fall River, MA |
85,093 | Specialty Foods Group, Inc., Ron's Staffing | Chicago, IL |
85,114 | Predator Systems, Inc., Curtiss-Wright Controls, Aerotek Commercial Staffing | Boca Raton, FL |
85,158 | Cox Communications California LLC, Retention Group, Zero Chaos | Rancho Santa Margarita, CA |
85,290 | Rigaku Innovative Technologies, Inc., Rigaku America Holding Company, SAXS Systems | Auburn Hills, MI |
85,384 | Verizon California, Inc | Long Beach, CA |
85,403 | BAE Systems Aerospace &amp; Defense Group, Inc., Protection Systems Division, The Job Shop | McKee, KY |
85,403A | BAE Systems Aerospace &amp; Defense Group, Inc., Protection Systems Division, The Job Shop | Annville, KY |
85,448 | UnitedHealth One, UnitedHealth Group, Golden Rule Insurance Company | Lawrenceville, IL |
85,448A | UnitedHealth One, UnitedHealth Group, Golden Rule Insurance Company | Indianapolis, IN |
85,448B | UnitedHealth One, UnitedHealth Group, Golden Rule Insurance Company | Green Bay, WI |
85,517 | M&D Industries, Inc | Clarendon, PA |
85,543 | Momentive Performance Materials Quartz, Inc., Quartz and Ceramics, Momentive Performance Materials, Inc | Hebron, OH |
85,649 | Oshkosh Defense, LLC, Oshkosh Corporation, Accountemps, STS Technical Services, etc | Oshkosh, WI |
85,670 | Verizon Communications, Livesource Directory Assistance Operators | Erie, PA |
85,769 | Rural Metro Ambulance | Salem, OR |
85,775 | Laredo Petroleum, Inc., Rowland Group | Farmers Branch, TX |
85,791 | MWI Veterinary Supply Co., MWI Veterinary Supply, Inc., Ambassador, Express Pros, Mega Force, etc | Warsaw, NC |
85,825 | OxyHeal Health Group, Inc., Traumatic Brain Injury Program (TBI) | Camp Lejeune, NC |
85,838 | Bethany Christian Services, Transitional Foster Care, Bethany Christian Services USA | Holland, MI |
85,925 | Bimbo Bakeries USA, Inc., BBU, Inc | Fullerton, CA |
85,932 | Mohican Mills, Inc., Fab Industries Corporation, Tallent Force | Lincolnton, NC |
85,942 | Halliburton, Drilling Fluids, Oil Field Technical Services, Oil Consultants Limited | Pocasset, OK |
85,985 | Covidien LP, Covidien, PLC, Medical Device Division | Pompano Bay, FL |
86,000 | Cudd Pumping Services, Inc., RPC, Inc., Megalodon Services, Inc | Seminole, OK |
86,013 | Samson Resources Corporation, Allred Construction, Accounting Principals, Addison Group, etc | Tulsa, OK |
86,021 | The Shredder Company LLC | Canutillo, TX |
86,023 | Team Oil Tools, LP, Tulsa Manufacturing | Tulsa, OK |
86,051 | Archer Pressure Pumping, LLC | Union City, OK |
86,110 | Allen Logging Company | Forks, WA |
86,131 | WPX Energy Services Company, LLC, WPX Energy, Inc | Tulsa, OK |
90,005 | Genesis Administrative Services LLC, Genesis Healthcare LLC | Albuquerque, NM |
90,031 | CUDD Pressure Control, Inc., Canton District, RPC, Inc | Canton, PA |
90,074 | IPS Engineering, LLC, Aerotek and the Rowland Group | Tulsa, OK |
90,237 | YellowPages.com, LLC, San Francisco Division, Digital Operations Group, YP LLC, etc | San Francisco, CA |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
85,957 | Tatung Company of America, Inc | Carson, CA |
90,049 | Muffett and Sons Fencing, LLC | Zillah, WA |
90,053 | Wheelock Manufacturing | Morocco, IN |
90,289 | Hess Services | Hays, KS |
91,050 | Concentrix | Greenville, SC |
91,059 | Gordon Bros. Supply, Inc | Stroud, OK |
91,063 | Unipower, LLC | Coral Springs, FL |

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
90,134 | Brown Brothers Harriman & Co | New York, NY |
90,270 | Milano Design Concept, Inc | Los Angeles, CA |

The following determinations terminating investigations were issued because the petitioning groups of workers are covered by active certifications. Consequently, further investigation in these cases would serve no purpose since the petitioning group of workers cannot be covered by more than one certification at a time.

TA-W No. | Subject firm | Location | Impact date
90,094 | Dex Media, Super Media Services LLC, Advantage Technical Resourcing (Formerly TAC) | Middleton, MA |
90,294 | U.S. Steel Tubular Products, Inc., Tubular Processing Houston Operations, United States Steel Corporation | Houston, TX |
90,304 | U.S. Steel Oilwell Services, LLC, Offshore Operations-Houston | Houston, TX |
91,039 | Foxconn Assembly, LLC | Houston, TX |

The following determinations terminating investigations were issued because the petitions are the subject of ongoing investigations under petitions filed earlier covering the same petitioners.

TA-W No. | Subject firm | Location | Impact date
90,140 | Century Aluminum of West Virginia, Inc | Ravenswood, WV |
91,127 | Avery Dennison | Covina, CA |

I hereby certify that the aforementioned determinations were issued during the period of November 9, 2015 through December 11, 2015. These determinations are available on the Department's Web site www.tradeact/taa/taa_search_form.cfm under the searchable listing of determinations or by calling the Office of Trade Adjustment Assistance toll free at 888-365-6822.

Signed at Washington, DC, this 16th day of December 2015.
Jessica R. Webster,
Certifying Officer, Office of Trade Adjustment Assistance.

[FR Doc. 2016-00231 Filed 1-8-16; 8:45 am]

BILLING CODE 4510-FN-P